DEPARTMENT OF THE TREASURY

Submission for OMB Review; Comment Request

January 18, 2012.

The Department of the Treasury will submit the following information collection request to the Office of Management and Budget (OMB) for review and clearance in accordance with the Paperwork Reduction Act of 1995, Public Law 104-13, on or after the date of publication of this notice.

DATES: Comments should be received on or before February 22, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 11020, Washington, DC 20220, or on-line at www.PRAComment.gov.

FOR FURTHER INFORMATION CONTACT: Copies of the submission(s) may be obtained by calling (202) 927-5331, email at PRA@treasury.gov, or the entire information collection request maybe found at www.reginfo.gov.

HR Connect/CareerConnector

OMB Number: 1505-0195.

Type of Review: Revision of a currently approved collection.

Title: Race and National Origin Identification.

Abstract: The Department's automated recruitment system, CareerConnector, is used to capture race and national origin information electronically from an applicant. The data will be used to help Treasury Bureaus identify barriers to selection and determine the demographics of the overall applicant pool.

Affected Public: Individuals and Households.

Estimated Total Annual Burden Hours: 41,667.

Dawn D. Wolfgang,
Treasury PRA Clearance Officer.

[FR Doc. 2012-1199 Filed 1-20-12; 8:45 am]

BILLING CODE 4810-25-P